DEPARTMENT OF DEFENSE

Office of the Secretary

32 CFR Part 199

[DoD-2009-HA-0096]

RIN 0720-AB34

TRICARE: Transitional Assistance Management Program

AGENCY: Office of the Secretary, Department of Defense.

ACTION: Proposed rule.

SUMMARY: The Department of Defense is publishing this proposed rule to implement section 4 of the Hubbard Act, Public Law 110-317, and section 734 of the Duncan Hunter National Defense Authorization Act for Fiscal Year 2009, Public Law 110-417. These Acts provide two new categories of beneficiaries for the Transitional Assistance Management Program (TAMP).

DATES: Comments received at the address indicated below by January 26, 2010 will be accepted.

ADDRESSES: You may submit comments, identified by docket number and/or Regulatory Information Number (RIN) and title, by either of the following methods:

• Federal Rulemaking Portal: http://www.regulations.gov. Follow the instructions for submitting comments.

• Mail: Federal Docket Management System Office, Room 3C843 Pentagon, 1160 Defense Pentagon, Washington, DC 20301-1160.

Instructions: All submissions received must include the agency name and docket number or RIN for this Federal Register document. The general policy for comments and other submissions from members of the public is to make these submissions available for public viewing on the Internet at http://www.regulations.gov as they are received without change, including any personal identifiers or contact information.

FOR FURTHER INFORMATION CONTACT: Glenn Corn, Medical Benefits and Reimbursement Branch, TRICARE Management Activity, telephone (303) 676-3566.

SUPPLEMENTARY INFORMATION: This proposed rule implements section 4 of the Hubbard Act, Public Law 110-317, and section 734 of the Duncan Hunter National Defense Authorization Act for Fiscal Year 2009, Public Law 110-417, in establishing two new eligibility categories under TAMP. The TAMP benefit provides continued TRICARE coverage for a period of 180 days. For those who qualify, the 180-day time frame begins upon the active duty member's separation. For further information on TAMP benefits, please visit the TRICARE Web site at http://www.tricare.mil.

The TAMP is available to specific beneficiary categories. Prior to the two additional categories that are being proposed in this rule, the TAMP was available to:

(i) A member who is involuntarily separated from active duty.

(ii) A member of a reserve component who is separated from active duty to which called or ordered in support of a contingency operation if the active duty is active duty for a period of more than 30 days.

(iii) A member who is separated from active duty for which the member is involuntarily retained under section 12305, in support of a contingency operation.

(iv) A member who is separated from active duty pursuant to a voluntary agreement of the member to remain on active duty for a period of less than one year in support of a contingency operation.

Public Law 110-317 amended Section 1145(a)(2) of title 10, U.S.C. by adding “a member who receives a sole survivorship discharge (as defined in section 1174(i) of this title)” as an additional category of TAMP eligible. The provision is effective August 29, 2008.

Public Law 110-417 amended Section 1145(a)(2) of title 10, U.S.C. by adding “a member who is separated from active duty who agrees to become a member of the Selected Reserve of the Ready Reserve of a reserve component.” This provision is effective October 14, 2008.

Although the TRICARE Management Activity is tasked with publishing legislatively mandated eligibility changes, determination of eligibility is the primary responsibility of the Uniformed Services. TRICARE relies on the Defense Enrollment Eligibility Reporting System (DEERS) for eligibility verification. However, a determination by the Uniformed Services that a person is eligible does not automatically entitle such a person to TRICARE payments. Before any TRICARE benefits may be extended, additional requirements of 32 CFR Part 199 must be met. Disputes regarding eligibility or dates of beginning eligibility for benefits under TRICARE can only be resolved by the appropriate Uniformed Service.

Regulatory Procedures

Executive Order 12866, “Regulatory Planning and Review”

Section 801 of title 5, United States Code, and Executive Order 12866 require certain regulatory assessments and procedures for any major rule or significant regulatory action, defined as one that would result in an annual effect of $100 million or more on the national economy or which would have other substantial impacts. It has been certified that this rule is not a major rule or significant regulatory action.

Public Law 104-4, Section 202, “Unfunded Mandates Reform Act”

Section 202 of Public Law 104-4, “Unfunded Mandates Reform Act,” requires that an analysis be performed to determine whether any federal mandate may result in the expenditure by State, local and tribal governments, in the aggregate, or by the private sector of $100 million in any one year. It has been certified that this proposed rule does not contain a Federal mandate that may result in the expenditure by State, local and tribal governments, in aggregate, or by the private sector, of $100 million or more in any one year, and thus this proposed rule is not subject to this requirement.

Public Law 96-354, “Regulatory Flexibility Act” (RFA) (5 U.S.C. 601)

Public Law 96-354, “Regulatory Flexibility Act” (RFA) (5 U.S.C. 601), requires that each Federal agency prepare a regulatory flexibility analysis when the agency issues a regulation which would have a significant impact on a substantial number of small entities. This proposed rule is not an economically significant regulatory action, and it has been certified that it will not have a significant impact on a substantial number of small entities. Therefore, this proposed rule is not subject to the requirements of the RFA.

Public Law 96-511, “Paperwork Reduction Act” (44 U.S.C. Chapter 35)

This rule does not contain a “collection of information” requirement, and will not impose additional information collection requirements on the public under Public Law 96-511, “Paperwork Reduction Act” (44 U.S.C. Chapter 35).

Executive Order 13132, “Federalism”

Executive Order 13132, “Federalism,” requires that an impact analysis be performed to determine whether the rule has federalism implications that would have substantial direct effects on the States, on the relationship between the national government and the States, or on the distribution of power and responsibilities among the various levels of government. It has been certified that this proposed rule does not have federalism implications, as set forth in Executive Order 13132.

List of Subjects in 32 CFR Part 199

Claims, Dental health, Health care, Health insurance, Individuals with disabilities, Military personnel.

Accordingly, 32 CFR part 199 is proposed to be amended as follows:

PART 199—[AMENDED]

1. The authority citation for part 199 continues to read as follows:

Authority: 5 U.S.C. 301; 10 U.S.C. Chapter 55.

2. Section 199.3 is amended by adding two new paragraphs (e)(1)(v) and (e)(1)(vi) to read as follows:

§ 199.3 Eligibility.

* * * * *

(e) * * *

(1) * * *

(v) A member who receives a sole survivorship discharge (as defined in section 1174(i) of title 10, United States Code).

(vi) A member who is separated from active duty who agrees newly to become a member of the Selected Reserve of the Ready Reserve of a reserve component.

* * * * *

Dated: November 19, 2009.
Patricia L. Toppings,
OSD Federal Register Liaison Officer, Department of Defense.

[FR Doc. E9-28359 Filed 11-25-09; 8:45 am]

BILLING CODE 5001-06-P